DEPARTMENT OF JUSTICE

Antitrust Division

Notice Pursuant to the National Cooperative Research and Production Act of 1993—Cooperative Research Group on Development and Evaluation of a Gas Chromatograph Testing Protocol

Notice is hereby given that, on March 6, 2008, pursuant to Section 6(a) of the National Cooperative Research and Production Act of 1993, 15 U.S.C. 4301 et seq. (“the Act”), Southwest Research Institute—Cooperative Research Group on Development and Evaluation of a Gas Chromatograph Testing Protocol (“GCTP”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ABE Inc., Totalflow Products, Bartlesville, OK; Chevron Pipeline, Houston, TX; Operations Technology Development, Des Plains, IL; Questar Gas Company, Salt Lake City, UT; KeySpan Energy, Hicksville, NY; APGA Research Foundation, Mesa, AZ; Southern California Gas Company, Los Angeles, CA; NiCor Gas, Naperville, IL; Consolidated Edison Company of New York Inc., New York, NY; Pacific Gas & Electric Co., Walnut Creek, CA; and TransCanada Pipelines Ltd, Calgary, Alberta, Canada.

The general area of GCTP's planned activity is to develop a performance test protocol for gas chromatographs (“GCs”) used by the natural gas industry. A test procedure will be created and evaluated through tests of multiple brands of GCs in controlled experiments. Findings will be provided to the American Petroleum Institute for use in developing a test protocol for general use. The general protocol will help users in the natural gas industry to define test conditions for their own performance evaluations. With this protocol, industry users can select reliable and appropriate GCs for their own applications. The protocol may also be used to support acceptance of units by custody transfer parties and regulatory agencies, such as BLM, MMS, PHMSA, or state regulatory bodies. Membership in this research group remains open, and the participants intend to file additional written notification disclosing all changes in membership or planned activities.

Patricia A. Brink,
Deputy Director of Operations, Antitrust Division.

[FR Doc. E8-7007 Filed 4-4-08; 8:45 am]

BILLING CODE 4410-11-M